ENVIRONMENTAL PROTECTION AGENCY

[ER-FRL-8999-2]

Environmental Impacts Statements; Notice of Availability

Responsible Agency: Office of Federal Activities, General Information (202) 564-1399 or http://www.epa.gov/compliance/nepa/.

Weekly receipt of Environmental Impact Statements.

Filed 09/12/2011 Through 09/16/2011

Pursuant to 40 CFR 1506.9.

Notice

Section 309(a) of the Clean Air Act requires that EPA make public its comments on EISs issued by other Federal agencies. EPA's comment letters on EIS are available at: http://www.epa.gov/compliance/nepa/eisdata.html.

EIS No. 20110315, Final EIS, USFS, MN,South Fowl Lake Snowmobile Access Project, Proposing a Replacement Snowmobile Trail between McFarland Lake and South Fowl Lake, Gunflint Ranger District, Superior National Forest, Eastern Region, Cook County, MN, Review Period Ends: 10/24/2011, Contact: Peter Taylor 218-626-4368.

EIS No. 20110316, Draft EIS, USACE, CA,Pier S Marine Terminal Development and Back Channel Navigational Safety Improvements, Construction and Operation, U.S. Army COE Section 10 and 404 Permit and Section 103 of the Marine Protection Research and Sanctuaries Act, Los Angeles County, CA, Comment Period Ends: 11/07/2011, Contact: John W. Markham 805-585-2150.

EIS No. 20110317, Draft EIS, USFS, MT,Lonesome Wood Vegetation Management 2 Project Areas, Proposed Forest Thinning, Prescribed Burning and Associated Activities, Habgen Lake Ranger District, Gallatin National Forest, Gallatin County, MT, Comment Period Ends: 11/07/2011, Contact: Teri Seth 406-522-2539.

EIS No. 20110318, Final EIS, BLM, AZ,Ironwood Forest National Monument, Resource Management Plan, Implementation, Tucson Field Office, AZ, Review Period Ends:10/24/2011, Contact: Laura Olais 520-258-7242.

EIS No. 20110319, Draft Supplement, NOAA, CA,Southwest Fisheries Science Center (SWFSC), Demolition, Soil Stabilization and Seismic Improvement in La Jolla, CA, Comment Period Ends: 11/07/2011, Contact: William F. Broglie 206-526-4837.

EIS No. 20110320, Final EIS, NOAA, CA,ADOPTION—Bair Island Restoration and Management Plan, Tidal Action Restoration, Don Edwards San Francisco Bay National Wildlife Refuge, Bair Island State Ecological Reserve, South San Francisco Bay, San Mateo County, CA, Review Period Ends:10/24/2011, Contact: Patricia A. Montanio 301-427-8618. U.S. DOC has adopted the DOI, SFW'S FEIS #20060314, filed 07/24/2006. DOC was not a Cooperating Agency for the above FEIS; recirculation of the document is necessary under 40 CFR 1506.3(b).

EIS No. 20110321, Draft EIS, BLM, CA,South Coast Resource Management Plan Revision, Implementation, San Diego, Riverside, San Bernardino, Orange and Los Angeles Counties, CA, Comment Period Ends: 12/21/2011, Contact: Greg Hill 760-833-7140.

EIS No. 20110322, Draft EIS, USACE, NC,NC-1409 (Military Cutoff Road) Extension and Proposed US 17 Hampstead Bypass, New Hanover and Pender Counties, NC, Comment Period Ends: 11/15/2011, Contact: Brad Shaver 910-251-4611.

EIS No. 20110323, Draft Supplement, USFS, MI,Huron-Manistee National Forests, Supplement the 2006 FEIS Analysis and to Correct the Deficiencies that the Meister Panel Identified, Land and Resource Management Plan, Implementation, Several Counties, MI, Comment Period Ends: 12/21/2011, Contact:Ken Abrogate 231-775-2421.

EIS No. 20110324, Final EIS, FHWA, 00,Interstate 5 Columbia River Crossing Project, Bridge, Transit, and Highway Improvements, from State Route 500 in Vancouver, WA to Columbia Boulevard in Portland, OR, Funding, U.S. COE Section 10 & 404 Permits, NPDES Permit, Review Period Ends: 10/24/2011, Contact: James Saxon 206-220-4311.

Amended Notices

EIS No. 20110257, Draft EIS, FRA, CA,California High-Speed Train (HST): Merced to Fresno Section High-Speed Train, Propose to Construct, Operate, and Maintain an Electric-Powered High-Speed Train (HST), Merced, Madera and Fresno Counties, CA, Comment Period Ends: 10/13/2011, Contact:David Valenstein 202-493-6868. Revision to FR Notice Published: Extending Comment Period from 09/28/2011 to 10/13/2011.

Dated: September 20, 2011.
Cliff Rader,
Acting Director, NEPA Compliance Division, Office of Federal Activities.

[FR Doc. 2011-24504 Filed 9-22-11; 8:45 am]

BILLING CODE 6560-50-P